DEPARTMENT OF DEFENSE

GENERAL SERVICES ADMINISTRATION

NATIONAL AERONAUTICS AND SPACE ADMINISTRATION

[OMB Control No. 9000-0194; Docket No. 2016-0053; Sequence 32]

Submission for OMB Review; Public Disclosure of Greenhouse Gas Emissions and Reduction Goals-Representations

AGENCY: Department of Defense (DOD), General Services Administration (GSA), and National Aeronautics and Space Administration (NASA).

ACTION: Notice of request for comments regarding a new OMB clearance.

SUMMARY: Under the provisions of the Paperwork Reduction Act, the Regulatory Secretariat Division will be submitting to the Office of Management and Budget (OMB) a request for approval of an information collection requirement regarding Public Disclosure of Greenhouse Gas Emissions and Reduction Goals-Representations. A notice was published in the Federal Register at 81 FR 33192 on May 25, 2016, as part of a proposed rule under FAR Case 2015-024. No public comments were received on the information collection.

DATES: Submit comments on or before December 22, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0194. Select the link “Comment Now” that corresponds with “Information Collection 9000-0194, Public Disclosure of Greenhouse Gas Emissions and Reduction Goals-Representations”. Follow the instructions provided on the screen. Please include your name, company name (if any), and “Information Collection 9000-0194, Public Disclosure of Greenhouse Gas Emissions and Reduction Goals-Representations” on your attached document.

• Mail: General Services Administration, Regulatory Secretariat Division (MVCB), 1800 F Street NW., Washington, DC 20405. ATTN: Ms. Flowers/IC 9000-0194, Public Disclosure of Greenhouse Gas Emissions and Reduction Goals-Representations.

Instructions: Please submit comments only and cite “Information Collection 9000-0194, Public Disclosure of Greenhouse Gas Emissions and Reduction Goals-Representations”, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Office of Governmentwide Acquisition Policy, at telephone 703-795-6328, or via email to charles.gray@gsa.gov.

SUPPLEMENTARY INFORMATION:

A. Purpose

Public disclosure of Greenhouse Gas (GHG) emissions and reduction goals or targets has become standard practice in many industries, and companies are increasingly asking their own suppliers about their GHG management practices. Performing a GHG inventory provides insight into operations, spurs innovation, and helps identify opportunities for efficiency and savings that can result in both environmental and financial benefits. By asking suppliers whether or not they publicly report emissions and reduction targets, the Federal Government will have accurate, up-to-date information on its suppliers. An annual representation will promote transparency and demonstrate the Federal Government's commitment to reducing supply chain emissions. Furthermore, by promoting GHG management and emissions reductions in its supply chain, the Federal Government will encourage supplier innovation, greater efficiency, and cost savings, benefitting both the Government and suppliers and adding value to the procurement process.

This representation would be mandatory only for vendors who received $7.5 million or more in Federal contract awards in the preceding Federal fiscal year. The representation would be voluntary for all other vendors. Additionally, as long as the vendor's emissions are reported publicly—either by the entity itself or rolled up into the public emissions report of a parent company—the emissions would be considered publicly reported.

B. Annual Reporting Burden

Respondents: 5,500.

Responses per Respondent: 1.

Annual Responses: 5,500.

Hours Per Response: .25.

Total Burden Hours: 1,375.

Affected Public: Businesses or other for-profit and not for profit institutions.

Frequency: Annual.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., Washington, DC 20405, telephone 202-501-4755.

Please cite “OMB Control No. 9000-0194, Public Disclosure of Greenhouse Gas Emissions and Reduction Goals-Representations”, in all correspondence.

Dated: November 16, 2016.
Lorin S. Curit,
Director, Federal Acquisition Policy Division, Office of Governmentwide Acquisition Policy, Office of Acquisition Policy, Office of Governmentwide Policy.

[FR Doc. 2016-28009 Filed 11-21-16; 8:45 am]

BILLING CODE 6820-EP-P